DEPARTMENT OF THE TREASURY

Office of Thrift Supervision

Electronic Operations

AGENCY: Office of Thrift Supervision (OTS), Treasury.

ACTION: Notice and request for comment.

SUMMARY: The proposed information collection request (ICR) described below has been submitted to the Office of Management and Budget (OMB) for review and approval, as required by the Paperwork Reduction Act of 1995. OTS is soliciting public comments on the proposal.

DATES: Submit written comments on or before October 27, 2008. A copy of this ICR, with applicable supporting documentation, can be obtained from RegInfo.gov at http://www.reginfo.gov/public/do/PRAMain.

ADDRESSES: Send comments, referring to the collection by title of the proposal or by OMB approval number, to OMB and OTS at these addresses: Office of Information and Regulatory Affairs, Attention: Desk Officer for OTS, U.S. Office of Management and Budget, 725-17th Street, NW., Room 10235, Washington, DC 20503, or by fax to (202) 395-6974; and Information Collection Comments, Chief Counsel's Office, Office of Thrift Supervision, 1700 G Street, NW., Washington, DC 20552, by fax to (202) 906-6518, or by e-mail to infocollection.comments@ots.treas.gov. OTS will post comments and the related index on the OTS Internet site at http://www.ots.treas.gov. In addition, interested persons may inspect comments at the Public Reading Room, 1700 G Street, NW., by appointment. To make an appointment, call (202) 906-5922, send an e-mail to public.info@ots.treas.gov, or send a facsimile transmission to (202) 906-7755.

FOR FURTHER INFORMATION CONTACT: For further information or to obtain a copy of the submission to OMB, please contact Ira L. Mills at, ira.mills@ots.treas.gov (202) 906-6531, or facsimile number (202) 906-6518, Regulations and Litigation Division, Chief Counsel's Office, Office of Thrift Supervision, 1700 G Street, NW., Washington, DC 20552.

SUPPLEMENTARY INFORMATION: OTS may not conduct or sponsor an information collection, and respondents are not required to respond to an information collection, unless the information collection displays a currently valid OMB control number. As part of the approval process, we invite comments on the following information collection.

Title of Proposal: Electronic Operations.

OMB Number: 1550-0095.

Form Number: N/A.

Description: With the increased focus of institutions on the use of electronic channels to perform their daily operations and offer new products and services, the Office of Thrift Supervision (“OTS”) plays an important role in evaluating an institution's risks in the use of information technology.

Federal savings associations may use, or participate with others to use, electronic means or facilities to perform any function, or provide any product or service, as part of an authorized activity. 12 CFR 555. Electronic means or facilities include, but are not limited to, automated teller machines, automated loan machines, personal computers, the Internet, the World Wide Web, telephones, and other similar electronic devices. The regulation also requires each savings association to notify OTS at least 30 days before establishing a transactional Web site. Savings associations that present supervisory or compliance concerns may be subject to additional procedural requirements.

Type of Review: Extension of a currently approved collection.

Affected Public: Business or other for-profit.

Estimated Number of Respondents: 80.

Estimated Number of Responses: 80.

Estimated Burden Hours per Response: 2 hours.

Estimated Frequency of Response: Other; transactionally.

Estimated Total Burden: 160 hours.

Clearance Officer: Ira L. Mills, (202) 906-6531, Office of Thrift Supervision, 1700 G Street, NW., Washington, DC 20552.

Dated: September 19, 2008.
Deborah Dakin,
Senior Deputy Chief Counsel, Regulations and Legislation Division.

[FR Doc. E8-22485 Filed 9-24-08; 8:45 am]

BILLING CODE 6720-01-P